FEDERAL ELECTION COMMISSION

11 CFR Parts 109, 114, and 300

[Notice 2005-11]

Candidate Solicitation at State, District and Local Party Fundraising Events; Definition of “Agent” for BCRA Regulations; Payroll Deductions By Member Corporations for Contributions to a Trade Association's Separate Segregated Fund

AGENCY: Federal Election Commission.

ACTION: Notice of public hearings.

SUMMARY: The Federal Election Commission is announcing public hearings on the following rulemakings: The proposed revision to the Commission's regulations on candidate solicitation at State, district and local party fundraising events; the proposed revision of the definition of “agent” for the Commission's regulations on non-Federal funds and coordinated and independent expenditures; and the proposed revision to the Commission's regulations on payroll deductions by member corporations for contributions to a trade association's separate segregated fund. The Commission plans to consider final rules for these three rulemakings in an open session scheduled for June 23, 2005.

DATES: The hearings will be held on Tuesday, May 17, 2005 and will begin at 10 a.m.

ADDRESSES: Commission hearings are held in the Commission's ninth floor meeting room, 999 E Street, NW., Washington, DC.

FOR FURTHER INFORMATION CONTACT: Mr. Brad C. Deutsch or Ms. Mai T. Dinh, Assistants General Counsel, 999 E Street, NW., Washington, DC 20463, (202) 694-1650 or (800) 424-9530.

SUPPLEMENTARY INFORMATION:

Rulemaking on Candidate Solicitation at State, District and Local Party Fundraising Events

On February 24, 2005, the Commission published a Notice of Proposed Rulemaking (“NPRM”) proposing revisions to the Explanation and Justification for the Commission's regulation at 11 CFR 300.64, which allow Federal officeholders and candidates to speak without restriction or regulation at fundraising events for State, district and local party committees, and proposing an alternative rule that would replace current section 300.64 with a rule barring candidates and Federal officeholders from soliciting or directing non-Federal funds while attending or speaking at party fundraising events. 70 FR 9014 (Feb. 24, 2005). The comment period for this NPRM ended on March 28, 2005. The Commission received eleven comments in response to this NPRM. Six commenters who submitted four of the comments requested to testify at a public hearing if one is held.

After considering these requests and the other comments received to date in response to this NPRM, the Commission believes a public hearing would be helpful in considering the issues raised in the rulemaking. The hearing will be held on May 17, 2005.

Rulemaking on Definition of “Agent” for BCRA Regulations on Non-Federal Funds or Soft Money and Coordinated and Independent Expenditures

On February 2, 2005, the Commission published an NPRM proposing to revise the definition of “agent” for its regulations on coordinated and independent expenditures, and non-Federal funds, by including persons acting with apparent authority in the definition of “agent.” 70 FR 5382 (Feb. 2, 2005). The comment period for this NPRM ended on March 4, 2005. The Commission received six comments in response to this NPRM. Four commenters who submitted two of the comments requested to testify at a public hearing if one is held.

After considering these requests and the other comments received to date in response to this NPRM, the Commission believes a public hearing would be helpful in considering the issues raised in the rulemaking. The hearing will be held on May 17, 2005.

Rulemaking on Payroll Deductions by Member Corporations for Contributions to a Trade Association's Separate Segregated Fund

On December 22, 2004, the Commission published an NPRM proposing to amend its rules regarding contributions to the separate segregated fund (“SSF”) of a trade association by employee-stockholders and executive and administrative personnel (collectively, “restricted class employees”) of corporations that are members of the trade association. The proposed rules would amend 11 CFR 114.8 to allow a corporate member of a trade association to provide incidental services to collect and forward contributions from its restricted class employees to the SSF of the trade association, including a payroll deduction or check-off system, upon written request of the trade association. The proposed rules would also amend 11 CFR 114.2(f) to require any corporate member of a trade association that provides incidental services for contributions to the trade association's SSF also to provide the same services for contributions to the SSF of any labor organization that represents employees of the corporation, upon written request of the labor organization and at a cost not to exceed actual expenses incurred. 69 FR 76628 (Dec. 22, 2004). The comment period for this NPRM ended on January 21, 2005. The Commission received 34 comments in response to this NPRM. Two commenters asked to testify at a public hearing if one is held.

After considering these requests and the other comments received to date in response to this NPRM, the Commission believes a public hearing would be helpful in considering the issues raised in the rulemaking. The hearing will be held on May 17, 2005.

Dated: April 18, 2005.
Scott E. Thomas,
Chairman, Federal Election Commission.

[FR Doc. 05-8109 Filed 4-22-05; 8:45 am]

BILLING CODE 6715-01-P